DEPARTMENT OF AGRICULTURE

National Agricultural Statistics Service

Notice of Intent To Seek Approval To Conduct an Information Collection

AGENCY: National Agricultural Statistics Service, USDA.

ACTION: Notice and request for comments.

SUMMARY: In accordance with the Paperwork Reduction Act of 1995, this notice announces the intention of the National Agricultural Statistics Service (NASS) to seek approval to conduct a new information collection, the 2009 On-Farm Renewable Energy Production Survey.

DATES: Comments on this notice must be received by November 20, 2009 to be assured of consideration.

ADDRESSES: You may submit comments, identified by docket number 0535—NEW, 2009 On-Farm Renewable Energy Production Survey by any of the following methods:

• E-mail: ombofficer@nass.usda.gov. Include docket number and title above in the subject line of the message.

• Fax: (202) 720-6396

• Mail: Mail any paper, disk, or CD-ROM submissions to: David Hancock, NASS Clearance Officer, U.S. Department of Agriculture, Room 5336A, Mail Stop 2024, South Building, 1400 Independence Avenue, SW., Washington, DC 20250-2024.

• Hand Delivery/Courier: Hand deliver to: David Hancock, NASS Clearance Officer, U.S. Department of Agriculture, Room 5336, South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION: Title: 2009 On-Farm Renewable Energy Production Survey.

OMB Control Number: 0535—NEW.

Type of Request: Intent to Seek Approval to Conduct a new Information Collection as mandated by the Food, Conservation, and Energy Act of 2008.

Abstract: The National Agricultural Statistics Service (NASS) of the United States Department of Agriculture (USDA) will request approval from the Office of Management and Budget (OMB) for the 2009 On-Farm Renewable Energy Production Survey to be conducted as a follow-on survey from the 2007 Census of Agriculture and is authorized by the Food, Conservation, and Energy Act of 2008 (Title IX—Energy).

The 2009 On-Farm Renewable Energy Production Survey will use as a sampling universe every respondent on the 2007 Census of Agriculture who reported energy generation on the farm using wind or solar technology, methane digester, etc. This energy survey will provide a comprehensive inventory of farm generated energy practices with detailed data relating to category or type of energy produced (wind, solar, and manure/methane digester), how much energy was generated, if any energy was sold onto a power grid, and the average payment received per kilowatt hour or total amount of utility savings from reduced demand. Data collection will be in the second half of 2010 for the reference period of 2009, with a final report published in Feb. of 2011. Data will be published at both the U.S. and State level where possible.

The primary objectives of the National Agricultural Statistics Service are to prepare and issue State and national estimates of crop production, livestock production, economic statistics, and environmental statistics related to agriculture and to conduct the Census of Agriculture and its follow-on surveys. This request is in response to a mandate from the Food, Conservation, and Energy Act of 2008.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-13) and Office of Management and Budget regulations at 5 CFR part 1320 (60 FR 44978, August 29, 1995). NASS also complies with OMB Implementation Guidance, “Implementation Guidance for Title V of the E-Government Act, Confidential Information Protection and Statistical Efficiency Act of 2002 (CIPSEA),” Federal Register, Vol. 72, No. 115, June 15, 2007, p. 33376.

Estimate of Burden: Public reporting burden for this collection of information is estimated to average 20 minutes per completed response.

Respondents: Farmers, ranchers, and farm managers self identified as producers of energy, through the 2007 Census of Agriculture.

Estimated Number of Respondents: 16,500.

Estimated Total Annual Burden on Respondents: 5,500 hours.

Copies of this information collection and related instructions can be obtained without charge from the NASS OMB Clearance Officer, at (202) 720-2248.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, September 14, 2009.
Joseph T. Reilly,
Associate Administrator.

[FR Doc. E9-22593 Filed 9-18-09; 8:45 am]

BILLING CODE 3410-20-P